ENVIRONMENTAL PROTECTION AGENCY

[EPA-HQ-OPP-2006-0302; FRL-8065-6]

Temporary Docket Closure and Relocation of EPA's Office of Pesticide Programs

AGENCY: Environmental Protection Agency (EPA).

ACTION: Notice.

SUMMARY: This notice announces the temporary closure and relocation of the Office of Pesticide Programs (OPP) Docket. OPP is moving to One Potomac Yard, 2777 South Crystal Drive, Arlington, VA 22202. The new OPP Docket facility will be located in Room S-4400. In order to prepare for the relocation to the new facility, the OPP Docket will be closed to the public on Friday, April 28 through Friday, May 5, 2006, and will reopen to the public on Monday, May 8, 2006. Once reopened for business at the new facility, the OPP Docket hours of operation will remain 8:30 a.m. to 4 p.m., Monday through Friday, excluding legal holidays. The OPP Docket telephone number will remain 703-305-5805. The mailing address will remain the same, except the mail code will become (7502P).

FOR FURTHER INFORMATION CONTACT: Sharon McBride, Public Information and Records Integrity Branch, Information Technology and Resources Management Division (7502C), Office of Pesticide Programs, Environmental Protection Agency, 1200 Pennsylvania Ave., NW., Washington, DC 20460-0001; telephone number: 703-305-5232; e-mail address: mcbride.sharony@epa.gov.

SUPPLEMENTARY INFORMATION:

A. How Can I Access Docket Materials During the Closure?

Publicly available docket materials will remain available to the public through the electronic docket at http://www.regulations.gov.

Docket material, such as copyrighted material, that are only publicly available in hard copy form at the OPP Docket facility, will not be available for inspection at the OPP Docket facility during this period of closure. The OPP Docket will reopen to the public at 8:30 a.m. on Monday, May 8, 2006, in Room S-4400, One Potomac Yard (South Building), 2777 S. Crystal Drive, Arlington, VA 22202.

B. How Can I Submit Public Comments During the Closure?

Public comments may continue to be submitted by one of the following two methods:

1. Electronically through the Federal eRulemaking portal at http://www.regulations.gov (which is available 24 hours a day/7 days a week). Please be sure to have the relevant docket identification (ID) number handy and follow the online instructions for submitting comments.

2. By mail through the U.S. Postal Service addressed to: Public Information and Records Integrity Branch (PIRIB) (7502P), Office of Pesticide Programs (OPP), Environmental Protection Agency, 1200 Pennsylvania Ave., NW., Washington, DC 20460-0001. Any mail received by the U.S. Postal Service for this address during the closure period will be held and then delivered to the new facility on May 8, 2006.

C. What About Personal or Courier Deliveries?

The OPP Docket will not be available to accept any deliveries during the closure period.

Beginning at 8:30 a.m. on Monday, May 8, 2006, the OPP Regulatory Public Docket will be available to accept deliveries in Room S-4400, One Potomac Yard (South Building), 2777 S. Crystal Drive, Arlington, VA 22202. Be sure to always identify the appropriate docket ID number in your submissions.

D. How Can I Find out More about the OPP Move?

Until the move is complete, regular updates will be published on the OPP Web site at http://www.epa.gov/pesticides/.

List of Subjects

Environmental protection, Administrative practice and procedure, Pesticides and pests.

Dated: April 6, 2006.
James Jones,
Director, Office of Pesticide Programs.

[FR Doc. E6-5744 Filed 4-18-06; 8:45 am]

BILLING CODE 6560-50-S